DEPARTMENT OF COMMERCE

Bureau of Industry and Security

Regulations and Procedures Technical Advisory Committee; Notice of Partially Closed Meeting

The Regulations and Procedures Technical Advisory Committee (RPTAC) will meet September 13, 2005, 9 a.m., Room 3884, in the Herbert C. Hoover Building, 14th Street between Constitution and Pennsylvania Avenues, NW., Washington, DC. The Committee advised the Office of the Assistant Secretary for Export Administration on implementation of the Export Administration Regulations (EAR) and provides for continuing review to update the EAR as needed.

Agenda

Public Session

1. Opening remarks by the Chairman.

2. Presentation of papers or comments by the public.

3. Regulations update.

4. Wassenaar Statement of Understanding on Military End-uses.

5. Update on MT controls.

6. Country policy update: India.

7. Country policy updates: Libya, Iraq.

8. Update on Country Group revision project.

9. Update on proposed rule on deemed export related regulatory requirements (RIN 0694-AD29).

10. Update on Automated Export System.

11. Export Enforcement update.

12. Update on De Minimis controls.

13. Update on Encryption controls.

14. Work group reports.

Closed Session

15. Discussion of matters determined to be exempt from the provisions relating to public meetings found in 5 U.S.C. app. 2 §§ 10(a)(1) and 10(a)(3).

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Yvette Springer at Yspringer@bis.doc.gov.

The Assistant Secretary for Administration, with the concurrence of the delegate of the General Counsel, formally determined on August 16, 2005, pursuant to Section 10(d) of the Federal Advisory Committee Act, as amended (5 U.S.C. app. 2 § (10)(d)), that the portion of the meeting dealing with matters the disclosure of which would be likely to frustrate significantly implementation of an agency action as described in 5 U.S.C. 552b(c)(9)(B) shall be exempt from the provisions relating to public meetings found in 5 U.S.C. app. 2 §§ 10(a)(1) and 10(a)(3). The remaining portions of the meeting will be open to the public. For more information, call Yvette Springer at (202) 482-4814.

Dated: August 23, 2005.
Yvette Springer,
Committee Liaison Officer.

[FR Doc. 05-17120 Filed 8-26-05; 8:45 am]

BILLING CODE 3510-JT-M